DEPARTMENT OF COMMERCE

International Trade Administration

[A-588-804]

Antifriction Bearings (Other Than Tapered Roller Bearings) and Parts Thereof From France, Germany, Italy, Japan, Romania, Singapore, Sweden and the United Kingdom: Notice of Amended Final Results of Antidumping Duty Administrative Reviews

AGENCY: Import Administration, International Trade Administration, Department of Commerce.

ACTION: Notice of amended final results of antidumping duty administrative reviews.

SUMMARY: On August 11, 2000, the Department of Commerce published the final results of administrative reviews of the antidumping duty orders on antifriction bearings (other than tapered roller bearings) and parts thereof from France, Germany, Italy, Japan, Romania, Singapore, Sweden and the United Kingdom. The classes or kinds of merchandise covered by these reviews are ball bearings and parts thereof, cylindrical roller bearings and parts thereof, and spherical plain bearings and parts thereof. The period of review is May 1, 1998, through April 30, 1999. Based on the correction of certain ministerial errors, we have changed the margins for ball bearings and parts thereof for two Japanese companies.

EFFECTIVE DATE: September 18, 2000.

FOR FURTHER INFORMATION CONTACT: Dave Dirstine or Robin Gray, AD/CVD Enforcement, Import Administration, International Trade Administration, U.S. Department of Commerce, 14th Street and Constitution Avenue, N.W., Washington, D.C. 20230; telephone: (202) 482-4033 or (202) 482-4023, respectively.

SUPPLEMENTARY INFORMATION:

The Applicable Statute

Unless otherwise indicated, all citations to the statute are references to the provisions effective January 1, 1995, the effective date of the amendments made to the Tariff Act of 1930 (the Act) by the Uruguay Round Agreements Act. In addition, unless otherwise indicated, all citations to the Department of Commerce's (the Department's) regulations are to 19 CFR Part 351 (1999).

Background

On August 11, 2000, the Department published the final results of administrative reviews of the antidumping duty orders on antifriction bearings (other than tapered roller bearings) and parts thereof from France, Germany, Italy, Japan, Romania, Singapore, Sweden and the United Kingdom (64 FR 35590) (Final Results). The reviews covered 36 manufacturers/exporters and the period May 1, 1998, through April 30, 1999. The Japanese products subject to the orders are ball bearings and parts thereof (BBs), cylindrical roller bearings and parts thereof (CRBs), and spherical plain bearings and parts thereof (SPBs).

After publication of our final results, we received a timely allegation from a respondent, Tsubaki-Nakashima Co., Ltd. (Tsubaki), that we had made a ministerial error in calculating the final results. We agree with the respondent. We also received a timely allegation from the petitioner, The Torrington Company, that we had made a ministerial error in calculating the final results applicable to Koyo Seiko Co., Ltd. (Koyo). We agree with the petitioner. Both of these errors were the result of incorrect computer-programming language we used to calculate the weighted-average margins for the Final Results. See the analysis memorandum from analyst to file, dated September 7, 2000, for a description of the changes we made to correct these ministerial errors.

Amended Final Results of Review

As a result of the correction of the ministerial errors and amended margin calculations, the following weighted-average margins exist for Koyo and Tsubaki for the period May 1, 1998, through April 30, 1999:

Manufacturer/exporter | BBs rate (percent) | CRBs rate (percent) | SPBs rate (percent)
Koyo Seiko Co., Ltd | 5.41 | ¹ 0.92 | ¹ 0.00
Tsubaki-Nakashima Co., Ltd | 11.85 | (²) | (²)
¹ No change from Final Results.
² No shipments or sales subject to this review. The firm has no individual rate from any segment of this proceeding.

The Department shall determine, and the Customs Service shall assess, antidumping duties on all appropriate entries. We will also direct Customs Service to collect cash deposits of estimated antidumping duties on all appropriate entries in accordance with the procedures discussed in the final results of review (64 FR 35590) and as amended by this determination. The amended deposit requirements are effective for all shipments of the subject merchandise entered, or withdrawn from warehouse, for consumption on or after the date of publication of this notice and shall remain in effect until publication of the final results of the next administrative reviews.

We are issuing and publishing this determination and notice in accordance with sections 751(h) and 777(i)(1) of the Act.

Dated: September 8, 2000.
Troy H. Cribb,
Acting Assistant Secretary for Import Administration.

[FR Doc. 00-23903 Filed 9-15-00; 8:45 am]

BILLING CODE 3510-DS-P